DEPARTMENT OF THE INTERIOR

Bureau of Land Management

[MT-LLMTC01000-L13200000-EL0000, MTM 97988]

Notice of Availability for the Signal Peak Energy, LLC, Federal Coal Lease Application; Environmental Assessment and Notice of Public Hearing

AGENCY: Bureau of Land Management, Interior.

ACTION: Notice of Availability and Notice of Public Hearing.

SUMMARY: In accordance with Federal coal management regulations, the Signal Peak Energy Coal Lease by Application Environmental Assessment (EA) is available for public review and comment. The Bureau of Land Management (BLM) will hold a public hearing to receive comments on the EA and associated Finding of No Significant Impact (FONSI), as well as the Fair Market Value (FMV), and Maximum Economic Recovery (MER) of the coal resources for Signal Peak Energy's Federal Coal Lease Application MTM 97988.

DATES: The public hearing will be held in the BLM Montana State Office's main conference room on April 13, 2010, at 6:30 p.m., and will continue until all comments have been heard. Written comments must be received on or before 4 p.m., April 27, 2010.

ADDRESSES: The public hearing will be held at the BLM Montana State Office's main conference room, 5001 Southgate Drive, Billings, Montana. Written comments on the FMV and MER should be sent to the BLM, Montana State Office, 5001 Southgate Drive, Billings, Montana 59101-4669. Written comments or questions on the EA should be sent to James M. Sparks, Manager, Billings Field Office, 5001 Southgate Drive, Billings, Montana 59101-4669. Copies of the EA are available at the Billings Field Office at the above address.

FOR FURTHER INFORMATION CONTACT: Craig Drake, Assistant Manager, Billings Field Office, 5001 Southgate Drive, Billings, Montana 59107-6800; 406-896-5349.

SUPPLEMENTARY INFORMATION: The land included in Coal Lease Application MTM 97988 contains an estimated 61.4 million tons of recoverable coal reserves. It is described as follows:

T.6N., R.27E., P.M.M

Sec. 4: Lot 1, S½NE¼, SE¼NW¼, S½

Sec. 8: NE¼, NE¼NW¼, S½NW¼, S½

Sec. 10: W½NE¼, SE¼NE¼, NW¼, S½

Sec. 14: SW¼NW¼, NW¼, S½

Sec. 22: W½, SE¼; 2,679.86 acres.

The EA addresses the cultural, socioeconomic, environmental, and cumulative impacts that would likely result from leasing these coal lands. Two alternatives are addressed in the EA:

Alternative 1: (Proposed Action) The tracts would be leased, as applied for;

Alternative 2: (No Action) The application would be rejected or denied. The Federal coal reserves would be bypassed.

Proprietary data marked as confidential may be submitted to the BLM in response to this solicitation of public comments. Data so marked shall be treated in accordance with the laws and regulations governing the confidentiality of such information. A copy of the comments submitted by the public on FMV and MER, except those portions identified as proprietary by the author and meeting exemptions stated in the Freedom of Information Act, will be available for public inspection at the BLM Montana State Office, 5001 Southgate Drive, Billings, Montana 59101-4669, during regular business hours (9 a.m. to 4 p.m.) Monday through Friday. Comments pertaining to the EA and FONSI will be available for public inspection at the Billings Field Office, 5001 Southgate Drive, Billings, Montana, during regular business hours (9 a.m. to 4 p.m.) Monday through Friday.

Written comments on the FMV and MER should address, but not necessarily be limited to, the following:

1. The quality and quantity of the coal resources;

2. The mining method or methods which would achieve MER of the coal, including specifications of the seams to be mined, timing and rate of production, restriction to mining, and the inclusion of the tracts in an existing mining operation;

3. The FMV appraisal including, but not limited to, the evaluation of the tract as an incremental unit of an existing mine, selling price of the coal, mining and reclamation costs, net present value discount factors, depreciation and other tax accounting factors, value of the surface estate, and any comparable sales data on similar coal lands. The values given above may or may not change as a result of comments received from the public and changes in market conditions between now and when final economic evaluations are completed.

Before including your address, phone number, e-mail address, or other personal identifying information in your comment, please be aware that your entire comment, including your personal identifying information, may be made publicly available at any time. While you may ask us in your comment to withhold your personal identifying information from public review, we cannot guarantee that we will be able to do so.

James M. Sparks,
Billings Field Office Manager.

[FR Doc. 2010-6723 Filed 3-26-10; 8:45 am]

BILLING CODE 4310-DN-P